DEPARTMENT OF AGRICULTURE

Federal Crop Insurance Corporation

7 CFR Part 457

[Docket ID FCIC-22-0004]

RIN 0563-AC79

Crop Insurance Reporting and Other Changes (CIROC); Corrections

AGENCY: Federal Crop Insurance Corporation, U.S. Department of Agriculture (USDA).

ACTION: Correcting amendment.

SUMMARY: On June 30, 2022, the Federal Crop Insurance Corporation revised the Area Risk Protection Insurance (ARPI) Regulations, Common Crop Insurance Policy (CCIP) Basic Provisions, and 20 Crop Provisions. That final rule contained some incorrect references, missing words, grammatical and spelling errors, repetitive parenthetical titles, and inadvertently removed text in the amendatory instructions. This document makes the corrections.

DATES: Effective August 30, 2022.

FOR FURTHER INFORMATION CONTACT: Francie Tolle; telephone (816) 926-7730; email francie.tolle@usda.gov. Persons with disabilities who require alternative means of communication should contact the USDA Target Center at (202) 720-2600 or 844-433-2774.

SUPPLEMENTARY INFORMATION:

Background

The Common Crop Insurance Regulations in 7 CFR part 457 were revised by a final rule with request for comments published in the Federal Register on June 30, 2022 (87 FR 38883-38900). Changes were made in that rule to the Area Risk Protection Insurance (ARPI) Basic Provisions (7 CFR part 407), Common Crop Insurance Policy (CCIP) Basic Provisions (7 CFR 457.8), and 20 Crop Provisions. In reviewing the changes made, FCIC found some incorrect references, missing words, grammatical and spelling errors, repetitive parenthetical titles, and inadvertently missing text that was included in the amendatory instructions. This document makes the corrections in the following Provisions:

• Common Crop Insurance Policy Basic Provisions (7 CFR 457.8)

• Pear Crop Insurance Provisions (7 CFR 457.111);

• Guaranteed Production Plan of Fresh Market Tomato (7 CFR 457.128);

• Macadamia Nut Crop Insurance Provisions (7 CFR 457.131);

• Onion Crop Insurance Provisions (7 CFR 457.135);

• Fresh Market Tomato Dollar Plan Crop Insurance Provisions (7 CFR 457.139);

• Table Grape Crop Insurance Provisions (7 CFR 457.149);

• Pecan Revenue Crop Insurance Provisions (7 CFR 457.167);

• Cabbage Crop Insurance Provisions (7 CFR 457.171);

• Florida Avocado Crop Insurance Provisions (7 CFR 457.173); and

• California Avocado Crop Insurance Provisions (7 CFR 457.175).

List of Subjects in 7 CFR Part 457

Acreage allotments, Crop insurance, Reporting and recordkeeping requirements.

Accordingly, 7 CFR part 457 is corrected by making the following amendments:

PART 457—COMMON CROP INSURANCE REGULATIONS

1. The authority citation for part 457 continues to read as follows:

Authority: 7 U.S.C. 1506(l), 1506(o).

2. Amend § 457.8 in the “Common Crop Insurance Policy” by:

a. In section 20, revising paragraph (d)(1);

b. In section 25, in paragraph (a)(1), removing the words “an substantial” and adding “a substantial” in their place; and

c. In section 38, in paragraph (b)(2), removing “3(g)” and adding “section 3(g)” in its place.

The revision reads as follows:

§ 457.8 The application and policy.

* * * * *

Common Crop Insurance Policy

* * * * *

20. Mediation, Arbitration, Appeal, Reconsideration, and Administrative and Judicial Review

* * * * *

(d) * * *

(1) We will make decisions regarding what constitutes a good farming practice and determinations of assigned production for uninsured causes for your failure to use good farming practices.

(i) If you disagree with our determination of the amount of assigned production, you must use the arbitration or mediation process contained in this section.

(ii) If you disagree with our decision of what constitutes a good farming practice you may request through us that FCIC review our decision. Requests for FCIC review must be made within 30 days of the postmark date on the written notice of the determination regarding good farming practices.

(iii) You may not sue us for our decisions regarding whether good farming practices were used by you. You must request a determination from FCIC of what constitutes a good farming practice before filing any suit against FCIC.

* * * * *

§ 457.111 [Amended]

3. In § 457.111, in the “Pear Crop Provisions”, amend section 13 by:

a. In the introductory paragraph, removing the phrase “Insured who select this option cannot receive” and adding “If you select this option, you cannot receive” in its place; and

b. In paragraph (a)(4), removing the word “elect” and adding “elected” in its place.

§ 457.128 [Amended]

4. Amend § 457.128 in the “Guaranteed Production Plan of Fresh Market Tomato Crop Insurance Provisions” by:

a. In section 3 introductory text, removing the parenthetical phrase “(Insurance Guarantees, Coverage Levels, and Prices)”;

b. In section 4, removing the parenthetical phrase “(Contract Changes)”;

c. In section 5 introductory text, removing the parenthetical phrase “(Life of Policy, Cancellation, and Termination)”;

d. In section 6, removing the parenthetical phrase “(Report of Acreage)” wherever it appears;

e. In section 8 introductory text, removing the parenthetical phrase “(Insured Crop)”;

f. In section 9, removing the parenthetical phrase “(Insurable Acreage)” wherever it appears;

g. In section 10:

i. In the introductory text, removing the parenthetical phrase “(Insurance Period)”; and

ii. In paragraph (b)(7), removing the word “States” and add “states” in its place;

h. In section 11, removing the parenthetical phrase “(Causes of Loss)” wherever it appears; and

i. In section 12, removing the parenthetical phrase “(Replanting Payment)” wherever it appears.

§ 457.131 [Amended]

5. In § 457.131, in the “Macadamia Nut Crop Provisions”, in section 1, in the definition of “Interplanted”, remove the word “agricultural commodities” and add “crops” in its place.

§ 457.135 [Amended]

6. In § 457.135, in the “Onion Crop Provisions”, in section 3, in paragraph (a), remove the phrase “designated in the actuarial documents” and add “designated in the Special Provisions” in its place.

7. In § 457.139, in the “Fresh market tomato (dollar plan) crop provisions”, amend section 16 by:

a. In paragraph (b) introductory text, removing the word “section” and adding “sections” in its place; and

b. In the table in paragraph (c), revising the entry for 16(b)(1).

The revision reads as follows:

§ 457.139 Fresh market tomato (dollar plan) crop insurance provisions.

* * * * *

Fresh Market Tomato (Dollar Plan) Crop Provisions

* * * * *

16. Minimum Value Option

* * * * *

(c) * * *

* * * * * * *
16(b)(1) | 500 cartons × $2 = value of sold production ($6 price received minus $4.25 allowable costs = $1.75. The $2.00 minimum value option price is greater than $1.75) | 1,000
* * * * * * *

§ 457.149 [Amended]

8. Amend § 457.149 in the “Table Grape Crop Provisions” by:

a. In section 3, in paragraph (b), removing the phrase “have same percentage relationship” and adding “have the same percentage relationship” in its place; and

b. In section 11, in paragraph (c), removing the words “meet requirements” and adding “meet the requirements” in their place.

§ 457.167 [Amended]

9. In § 457.167, in the “Pecan Revenue Crop Insurance Provisions”, in section 4, in paragraph (b), remove the words “Web site” and add “website” in its place.

§ 457.173 [Amended]

10. In § 457.173, in the “Florida Avocado Crop Insurance Provisions”, in section 8, in paragraph (a)(3)(i), remove the words “varieties of” and add “varieties and mid varieties of” in their place.

§ 457.175 [Amended]

11. In § 457.175, in the “California Avocado Crop Provisions”, in section 11, in paragraph (b)(2), remove “11(c)” and add “11(c))” in its place.

Marcia Bunger,
Manager, Federal Crop Insurance Corporation.

[FR Doc. 2022-18595 Filed 8-29-22; 8:45 am]

BILLING CODE 3410-08-P